DEPARTMENT OF AGRICULTURE

Animal and Plant Health Inspection Service

[Docket No. APHIS-2020-0044]

Removal of Japan From the List of Regions Declared Free of Classical Swine Fever

AGENCY: Animal and Plant Health Inspection Service, USDA.

ACTION: Notice.

SUMMARY: We are advising the public that we removed Japan from the list of regions the Animal and Plant Health Inspection Service recognizes as free of classical swine fever (CSF). This action follows the detection of CSF in Japan. This action is necessary in order to inform the public and to prevent the introduction of CSF into the United States.

DATES: This action became effective on September 10, 2018.

FOR FURTHER INFORMATION CONTACT: Dr. Ingrid Kotowski, Regionalization Evaluation Services, Veterinary Services, APHIS, 920 Main Campus Drive, Suite 200, Raleigh, NC 27606; (919) 855-7732; AskRegionalization@usda.gov.

SUPPLEMENTARY INFORMATION: The regulations in 9 CFR part 94 (referred to below as the regulations) govern the importation of specified animals and animal products to prevent the introduction into the United States of various animal diseases, including classical swine fever (CSF). CSF is a highly contagious disease of wild and domestic swine that can spread rapidly in swine populations with extremely high rates of morbidity and mortality. A list of regions that the Animal and Plant Health Inspection Service (APHIS) has determined are free of CSF is maintained on the APHIS website at https://www.aphis.usda.gov/aphis/ourfocus/animalhealth/animal-and-animal-product-import-information/animal-health-status-of-regions/.

That list is referenced in §§ 94.9(a)(1) and 94.10(a)(1) of the regulations. Section 94.9 contains requirements for the importation of pork and pork products from regions where CSF exists. Section 94.10 contains requirements for the importation of live swine from such regions.

Paragraphs (a)(2) of §§ 94.9 and 94.10 provide for the adding and removal of regions to or from the list of CSF-free regions. APHIS will add a region to the list after it conducts an evaluation of the region in accordance with 9 CFR 92.2 and finds that the disease is not present. APHIS will remove a region from the list upon determining that the disease exists in the region based on reports APHIS receives of outbreaks of the disease from veterinary officials of the exporting country, from the World Organization for Animal Health (OIE), or from other sources the Administrator determines to be reliable. A region that was formerly on the list but that has been removed due to an outbreak may be returned to the list in accordance with the procedures for reestablishment of a region's disease-free status in § 92.4.

On September 9, 2018, the veterinary authority of Japan reported to the OIE the occurrence of CSF in that country. On September 10, 2018, APHIS removed Japan's CSF-free status on a provisional basis pending an epidemiological investigation and remedial measures. Due to the failure to control and eradicate the disease in Japan, on November 20, 2019, APHIS determined that this removal would not be reversible without a formal re-evaluation pursuant to § 92.4.

As a result of these determinations, the importation of pork and pork products and live swine from Japan is subject to the APHIS import restrictions in §§ 94.9 and 94.10, which are designed to mitigate risk of CSF introduction into the United States.

Congressional Review Act

Pursuant to the Congressional Review Act (5 U.S.C. 801 et seq.), the Office of Information and Regulatory Affairs designated this action as a non-major rule, as defined by 5 U.S.C. 804(2).

Authority: 7 U.S.C. 1633, 7701-7772, 7781-7786, and 8301-8317; 21 U.S.C. 136 and 136a; 31 U.S.C. 9701; 7 CFR 2.22, 2.80, and 371.4.

Done in Washington, DC, this 9th day of June 2021.
Mark Davidson,
Acting Administrator, Animal and Plant Health Inspection Service.

[FR Doc. 2021-12595 Filed 6-15-21; 8:45 am]

BILLING CODE 3410-34-P